COMMISSION ON CIVIL RIGHTS

Agenda and Notice of Public Meeting of the Rhode Island Advisory Committee

AGENCY: Commission on Civil Rights.

ACTION: Announcement of public meetings.

SUMMARY: Notice is hereby given, pursuant to the provisions of the rules and regulations of the U.S. Commission on Civil Rights (Commission), and the Federal Advisory Committee Act (FACA), that the Rhode Island State Advisory Committee to the Commission will convene meetings on March 25, 2021 and April 22, 2021 at 3:00 p.m. (ET). The purpose of the meetings is to discuss a potential statement by the Committee on Covid-19 and vaccinations for Black, Indigenous, and People of Color in Rhode Island, along with project planning related to the Committee's project on licensing barriers to employment post-conviction in Rhode Island.

DATES: The meetings will be held on the following dates from 3:00 p.m.-4:00 p.m. ET:

• March 25, 2021 from 3:00-4:00 p.m. ET

• April 22, 2021 from 3:00-4:00 p.m. ET

To join by web conference: https://civilrights.webex.com/civilrights/j.php?MTID=m3c653c29d4ca0687a9430fcd8b844f27

• Password if prompted: USCCR

• If you wish to remain anonymous, please enter an alias when joining the meeting so your name does not appear in the Webex participant list

To join by phone only, dial: 1-800-360-9505; Access Code: 199 607 1840

FOR FURTHER INFORMATION CONTACT: Mallory Trachtenberg at mtrachtenberg@usccr.gov or by phone at (202) 809-9618.

SUPPLEMENTARY INFORMATION: The meeting is available to the public through the web link above. If joining only via phone, callers can expect to incur charges for calls they initiate over wireless lines, and the Commission will not refund any incurred charges. Individuals who are deaf, deafblind and hard of hearing. Individuals may also follow the proceedings by first calling the Federal Relay Service at 1-800-877-8339 and providing the Service with conference details found through registering at the web link above. To request additional accommodations, please email mtrachtenberg@usccr.gov at least 7 days prior to the meeting.

Members of the public are entitled to make comments during the open period at the end of the meeting. Members of the public may also submit written comments; the comments must be received in the Regional Programs Unit within 30 days following the meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda: Thursday, March 25, 2021 and Thursday, April 22, 2021 from 3:00-4:00 p.m. (ET)

I. Welcome and Roll Call

II. Announcements and Updates

III. Approval of Minutes from the Last Meeting

IV. Discussions

a. Statement on Covid-19 and Black, Indigenous, and People of Color

b. Project Planning for Licensing Report Dissemination

V. Public Comment

VI. Next Steps

VII. Adjournment

Dated: February 25, 2021.
David Mussatt,
Supervisory Chief, Regional Programs Unit.

[FR Doc. 2021-04278 Filed 3-1-21; 8:45 am]

BILLING CODE P